DEPARTMENT OF TRANSPORTATION

Federal Aviation Administration

Availability of the Final Environmental Assessment (EA) and Finding of No Significant Impact (FONSI) for Issuing an Experimental Permit to SpaceX for Operation of the Grasshopper Vehicle at the McGregor Test Site, Texas

AGENCY: Federal Aviation Administration (FAA), Department of Transportation.

ACTIONS: Notice.

SUMMARY: In accordance with the National Environmental Policy Act (NEPA) of 1969, 42 United States Code § 4321-4347 (as amended), Council on Environmental Quality (CEQ) NEPA implementing regulations (40 Code of Federal Regulations [CFR] Parts 1500-1508), and FAA Order 1050.1E, Change 1, the FAA is announcing the availability of the Final EA and FONSI for Issuing an Experimental Permit to SpaceX for Operation of the Grasshopper Vehicle at the McGregor Test Site, Texas.

The Final EA was prepared in response to an application for an experimental permit from Space Exploration Technologies Corporation (SpaceX). Under the Proposed Action, the FAA would issue an experimental permit to SpaceX to conduct suborbital launches and landings of the Grasshopper Reusable Launch Vehicle (RLV) from the McGregor test site in McGregor, Texas. The Grasshopper RLV is a vertical takeoff and vertical landing vehicle. The McGregor test site is located within the city limits of the City of McGregor, Texas in Coryell and McLennan Counties, approximately 20 miles southwest of Waco, Texas. The Final EA addresses the potential environmental impacts of implementing the Proposed Action and the No Action Alternative of not issuing an experimental permit to SpaceX.

The FAA has posted the Final EA and FONSI on the FAA/AST Web site at http://www.faa.gov/about/office_org/headquarters_offices/ast/. In addition, copies of the Final EA and FONSI were sent to persons and institutions on the distribution list (see Chapter 8 of the Final EA). A paper copy of the Final EA and FONSI may be reviewed during regular business hours at the following location: McGinley Memorial Library, 317 Main Street, McGregor, Texas 76657.

Additional Information: Under the Proposed Action, the FAA would issue an experimental permit to SpaceX, which would authorize SpaceX to conduct suborbital launches and landings of the Grasshopper RLV from the McGregor test site in McGregor, Texas. SpaceX has determined that to support the Grasshopper RLV activities under the experimental permit, it would be necessary to construct a launch pad and additional support infrastructure (water lines). Therefore, the Proposed Action analyzed in the Final EA includes the activities that would be authorized by the experimental permit (i.e., the operation of the launch vehicle) as well as the construction of the launch pad and installation of water lines. The experimental permit would be valid for one year and would authorize an unlimited number of launches. The FAA could renew the experimental permit if requested, in writing, by SpaceX at least 60 days before the permit expires. SpaceX anticipates that the Grasshopper RLV program would require up to 3 years to complete. Therefore, the Proposed Action considers one new permit and two potential permit renewals.

Although an experimental permit would authorize an unlimited number of launches, the FAA, in conjunction with SpaceX, developed a conservative set of assumptions regarding the possible number of launches that could be conducted under any one experimental permit for the Grasshopper RLV at the McGregor test site. The FAA has assumed that SpaceX would conduct up to 70 annual suborbital launches of the Grasshopper RLV under an experimental permit at the McGregor test site. This estimation is a conservative number and considers potential multiple launches per day and potential launch failures.

The only alternative to the Proposed Action analyzed in the Final EA is the No Action Alternative. Under the No Action Alternative, the FAA would not issue an experimental permit to SpaceX for operation of the Grasshopper RLV at the McGregor test site. Existing SpaceX activities would continue at the McGregor test site. Please refer to Section 2.2 of the Final EA for a brief discussion of existing SpaceX activities.

The resource areas considered in the Final EA include air quality; noise and compatible land use; land use (including U.S. Department of Transportation Section 4(f) Properties); biological resources (fish, wildlife, and plants); historical, architectural, archaeological, and cultural resources; hazardous materials, pollution prevention, and solid waste; light emissions and visual resources; natural resources and energy supply; water resources (surface waters and wetlands, groundwater, floodplains, and water quality); socioeconomics, environmental justice, and children's environmental health and safety; and secondary (induced) impacts. Potential cumulative impacts of the Proposed Action were also addressed in the Final EA.

An analysis of the Proposed Action has concluded that there would be no significant short-term, long-term, or cumulative effects to the environment or surrounding populations. Therefore, an Environmental Impact Statement for the Proposed Action is not required. After careful and thorough consideration of the facts contained herein, the FAA finds that the proposed Federal action is consistent with existing national environmental policies and objectives as set forth in Section 101 of NEPA and other applicable environmental requirements and will not significantly affect the quality of the human environment or otherwise include any condition requiring consultation pursuant to Section 102(2)(c) of NEPA.

FOR FURTHER INFORMATION CONTACT: Mr. Daniel Czelusniak, Environmental Program Lead, Office of Commercial Space Transportation, Federal Aviation Administration, 800 Independence Avenue SW., Room 325, Washington, DC 20591; telephone (202) 267-5924; email: Daniel.Czelusniak@faa.gov.

Issued in Washington, DC, on November 11, 2011.
Glenn H. Rizner,
Deputy Manager, Space Transportation Development Division.

[FR Doc. 2011-29892 Filed 11-17-11; 8:45 am]

BILLING CODE 4310-13-P